DEPARTMENT OF THE INTERIOR

Bureau of Land Management

[LLCAC09000 L16100000.DP0000]

Notice Re-opening the Comment Period for the Draft Resource Management Plan and Draft Environmental Impact Statement for the Clear Creek Management Area, California

AGENCY: Bureau of Land Management, Interior.

ACTION: Notice.

SUMMARY: The Bureau of Land Management (BLM) announces a re-opening of the comment period on the Draft Resource Management Plan (RMP) and Draft Environmental Impact Statement (EIS) for the Clear Creek Management Area (CCMA). The original notice was published in the Federal Register on December 4, 2009 [74 FR 0232] and provided for a comment period to end on March 5, 2010. The BLM is re-opening the comment period to end April 19, 2010.

FOR FURTHER INFORMATION CONTACT: Sky Murphy, BLM Hollister Field Office, 20 Hamilton Court, Hollister, California 95023, (831) 630-5039.

SUPPLEMENTARY INFORMATION: The original Notice of Availability provided for comments on the Draft RMP/Draft EIS to be received through March 5, 2010. The BLM is re-opening the comment period in response to and in light of the land use restrictions considered in the plan. Comments on the Draft RMP and EIS will now be accepted through April 19, 2010.

Karen Montgomery,
Acting Deputy State Director for Natural Resources.

[FR Doc. 2010-7999 Filed 4-7-10; 8:45 am]

BILLING CODE 4310-40-P